DEPARTMENT OF THE INTERIOR

Fish and Wildlife Service

[FWS-R3-ES-2012-N088; FXES11130300000F3-123-FF03E00000]

Endangered and Threatened Wildlife and Plants; Permit Applications

AGENCY: Fish and Wildlife Service, Interior.

ACTION: Notice of availability of permit applications; request for comments.

SUMMARY: We, the U.S. Fish and Wildlife Service (USFWS), invite the public to comment on the following applications to conduct certain activities with endangered species. With some exceptions, the Endangered Species Act (Act) prohibits activities with endangered and threatened species unless a Federal permit allows such activity. The Act requires that we invite public comment before issuing these permits.

DATES: We must receive any written comments on or before May 18, 2012.

ADDRESSES: Send written comments by U.S. mail to the Regional Director, Attn: Lisa Mandell, U.S. Fish and Wildlife Service, Ecological Services, 5600 American Blvd. West, Suite 990, Bloomington, MN 55437-1458; or by electronic mail to permitsR3ES@fws.gov.

FOR FURTHER INFORMATION CONTACT: Lisa Mandell, (612) 713-5343.

SUPPLEMENTARY INFORMATION:

Background

We invite public comment on the following permit applications for certain activities with endangered species authorized by section 10(a)(1)(A) of the Act (16 U.S.C. 1531 et seq.) and our regulations governing the taking of endangered species in the Code of Federal Regulations (CFR) at 50 CFR 17. Submit your written data, comments, or request for a copy of the complete application to the address shown in ADDRESSES.

Permit Applications

Permit Application Number: TE71464A.

Applicant: Bishop Hill Energy LLC, Chicago, IL.

The applicant requests a permit to take (salvage) the endangered Indiana bat (Myotis sodalis) at the Bishop Hill Wind Energy Project, Henry County, IL. The applicant proposes a maximum take of two Indiana bats during proposed research to determine operating methods to avoid long-term take of the species at the facility.

Under the research proposal, Bishop Hill Energy would evaluate bat mortality and take avoidance at the facility to benefit listed and unlisted bat species. The primary goal of the research is to evaluate and devise biologically based operational protocols for turbines at the Henry County facility to successfully avoid take of listed bat species.

In addition, information generated by the proposed research could be used to inform operational protocols at other operating wind energy projects within the range of Indiana bats, thereby enhancing the propagation and survival of the listed species. The proposed study is designed to research (1) effective methods to avoid mortality of listed bats through curtailment of turbines and (2) the relationship between temperature and risk of bat mortality. The applicant requests a permit term of two years.

The environmental impacts of the proposed study have been evaluated in accordance with the National Environmental Policy Act of 1969 (NEPA; 42 U.S.C. 4321 et seq.). The USFWS has prepared an Environmental Assessment (EA) to conduct this evaluation prior to making its decision on permit issuance. The EA is available for public review concurrent with the permit application.

Permit Application Number: TE71680A.

Applicant: Megan Caylor, Indianapolis, IN.

The applicant requests a permit to take (capture and release) Indiana bats and Gray bats (Myotis grisescens) throughout the range of the species. The applicant requests authority to conduct activities aimed at enhancement of survival of the species in the wild in Alabama, Arkansas, Connecticut, Florida, Illinois, Indiana, Iowa, Kentucky, Maryland, Michigan, Minnesota, Missouri, Mississippi, New Jersey, New York, North Carolina, Ohio, Oklahoma, Pennsylvania, Rhode Island, South Carolina, Tennessee, Vermont, Virginia, Washington, DC, and West Virginia.

Permit Application Number: TE15027A.

Applicant: Stantec Consulting, Columbus, OH.

The applicant requests a renewal of their permit, with an amendment, to take the following species: Indiana bats, gray bats, Hine's emerald dragonfly (Somatochlora hineana), American burying beetle (Nicrophorus americanus), and Mitchell's satyr butterfly (Neonympha mitchellii mitchellii) for the purpose of enhancement of the survival of the species in the wild. Proposed activities may occur within the following States: Illinois, Indiana, Michigan, Missouri, New Jersey, Ohio, Pennsylvania, and Wisconsin.

Permit Application Number: TE71718A.

Applicant: Steffen J. Bradley, Finneytown, OH.

The applicant requests a permit to take Indiana bats and gray bats within Illinois, Indiana, Iowa, Michigan, Missouri, Ohio, and Wisconsin. Proposed activities are for the recovery of the species and enhancement of survival of the species in the wild.

Permit Application Number: TE71720A.

Applicant: Forest Preserve District of Will County, Plainfield, IL.

The applicant requests a permit to take (capture and release) Indiana bats and gray bats within the Forest Preserve District, Will County, IL, for the purpose of recovery and enhancement of survival of the species in the wild.

Permit Application Number: TE71730A.

Applicant: Missouri Department of Conservation, Lost Valley Hatchery, Warsaw, MO.

The applicant requests a permit to take (capture and hold; propagate and release) the Topeka shiner (Notropis topeka) within the State of Missouri. Propagation activities will be conducted in accordance with the 10-year Strategic Plan for Recovery of the Topeka Shiner in Missouri. Proposed activities are for the enhancement of propagation and survival of the species in the wild.

Permit Application Number: TE00622A.

Applicant: Upper Peninsula Land Conservancy, Marquette, MI.

The applicant requests a permit renewal to take Piping Plover (Charadrius melodus) within Michigan's Upper Peninsula. Proposed activities involve protection of nests and adults, collection, and participating in captive rearing/release in accordance with USFWS protocols. Activities proposed are for the recovery of the species in the wild.

Permit Application Number: TE06846A.

Applicant: Smithsonian Migratory Bird Center, Washington, DC

The applicant requests a permit renewal to take (capture, band/tag, and release) the Kirtland's warbler (Dendroica kirtlandii) throughout Michigan for scientific research aimed at recovery of the species.

Permit Application Number: TE71737A.

Applicant: Roger A. Klocek, Plainfield, IL.

The applicant requests a permit to take (capture and release) Higgins' eye pearlymussel (Lampsilis higginsii), spectaclecase mussel (Cumberlandia monodonta), and sheepnose mussel (Plethobasus cyphus) within the Mississippi River in Iowa. Proposed activities are for the enhancement of survival of the species in the wild.

Permit Application Number: TE71819A.

Applicant: The University of Michigan, Dearborn, MI.

The applicant requests a permit to take Karner blue butterfly (Lycaeides melissa samuelis) within Michigan, Ohio, and Indiana. Proposed take involves capture and handling, nonlethal collection of tissue, and release. Activities are proposed to enhance the recovery of the species through research into genetic diversity.

Permit Application Number: TE08603A.

Applicant: Michelle Malcosky, Hudson, OH.

The applicant requests a permit renewal to take (capture and release) Indiana bats throughout the species' range for the purpose of enhancement of survival of the species in the wild.

Permit Application Number: TE71821A.

Applicant: David T. Zanatta, Central Michigan University, Mount Pleasant, MI.

The applicant requests a permit to take (capture and release; temporary holding) the following mussel species: Snuffbox (Epioblasma triquetra), rayed bean (Villosa fabalis), Clubshell (Pleurobema clava), and Northern riffleshell (Epioblasma torulosa rangiana). Proposed activities may occur within Michigan and Wisconsin for the purpose of research and enhancement of propagation and survival of the species in the wild.

Permit Application Number: TE71827A.

Applicant: Benjamin T. Hale, Jacksonville, IL.

The applicant requests a permit to take (capture and release) Indiana bats, gray bats, Ozark big-eared bats (Corynorhinus townsendii ingens), and Virginia big-eared bats (Corynorhinus townsendii virginianus) throughout the States of Alabama, Arkansas, Connecticut, Delaware, Florida, Georgia, Illinois, Indiana, Iowa, Kansas, Kentucky, Louisiana, Maine, Maryland, Massachusetts, Michigan, Minnesota, Mississippi, Missouri, Nebraska, New Hampshire, New Jersey, New York, North Carolina, Ohio, Oklahoma, Pennsylvania, Rhode Island, South Carolina, Tennessee, Texas, Vermont, Virginia, West Virginia, and Wisconsin. Proposed activities are for the enhancement of survival of the species in the wild.

Permit Application Number: TE206778.

Applicant: U.S. Fish and Wildlife Service, Ecological Services Field Office, Twin Cities, MN.

The applicant requests a permit amendment to add snuffbox, spectaclecase, and sheepnose mussels to existing Fish and Wildlife Permit Number TE206778. Proposed activities would occur within Minnesota and Wisconsin for the enhancement of propagation and survival of the species in the wild.

Permit Application Number: TE71834A.

Applicant: Robert J. Welch, Waupaca Biological Field Station, Waupaca, WI.

The applicant requests a permit to take (capture and release) snuffbox mussels within Wisconsin for the enhancement of survival of the species in the wild.

Permit Application Number: TE02360A.

Applicant: Sydney Morgan, Charleston, WV.

The applicant requests a permit renewal to take (capture and release) Indiana bats, gray bats, and Virginia big-eared bats throughout the States of Alabama, Arkansas, Connecticut, Delaware, Georgia, Illinois, Indiana, Iowa, Kentucky, Maryland, Massachusetts, Michigan, Mississippi, Missouri, New Hampshire, New Jersey, New York, North Carolina, Ohio, Oklahoma, Pennsylvania, Rhode Island, South Carolina, Tennessee, Texas, Vermont, Virginia, West Virginia, and Wisconsin. Proposed activities are for the enhancement of survival of the species in the wild.

Public Comments

We seek public review and comments on these permit applications. Please refer to the permit number when you submit comments. Comments and materials we receive are available for public inspection, by appointment, during normal business hours at the address shown in the ADDRESSES section. Before including your address, phone number, email address, or other personal identifying information in your comment, you should be aware that your entire comment—including your personal identifying information—may be made publicly available at any time. While you can ask us in your comment to withhold your personal identifying information from public review, we cannot guarantee that we will be able to do so.

Dated: April 12, 2012.
Sean Marsan,
Acting Assistant Regional Director, Ecological Services, Region 3.

[FR Doc. 2012-9391 Filed 4-17-12; 8:45 am]

BILLING CODE P